DEPARTMENT OF THE INTERIOR

Office of the Secretary

Office of Planning and Performance Management; Agency Information Collection Activities: Submitted for Office of Management and Budget (OMB) Review; Comment Request

AGENCY: Department of the Interior.

ACTION: Notice of extension/renewal of information collection survey.

SUMMARY: To comply with the requirements of the Paperwork Reduction Act (PRA) of 1995, we are submitting to the Office of Management and Budget (OMB) for its review and approval a request to extend/renew an information collection titled, “DOI Programmatic Clearance for Customer Satisfaction Surveys,” OMB Control #1040-0001, originally approved by OMB in January 2002 and expiring January 31, 2005. We are also soliciting comments from the public regarding this request.

DATES: Please submit written comments by December 29, 2004.

ADDRESSES: You may submit comments via fax or e-mail to the Office of Information and Regulatory Affairs, OMB, Attention: Desk Officer for the Department of the Interior (OMB Control Number 1040-0001). The fax number is (202) 395-6566; e-mail address is OIRA_DOCKET@omb.eop.gov.

Mail or hand-carry a copy of your comments to the Department of the Interior; Office of Planning and Performance Management; Attention: Sheri Harris; Mail Stop 5258; 1849 C Street, NW., Washington, DC 20240. If you wish to e-mail comments, the e-mail address is sheri_harris@ios.doi.gov. Reference “DOI Programmatic Clearance for Customer Satisfaction Surveys” in your e-mail subject line. Include your name and return address in your e-mail message and mark your message for return receipt.

FOR FURTHER INFORMATION CONTACT: Sheri L. Harris, Office of Planning and Performance Management, telephone (202) 208-7342. You may also contact Mrs. Harris to obtain a copy, at no cost, of the collection of information statement submitted to OMB.

SUPPLEMENTARY INFORMATION: Title: Extension/Renewal of DOI Programmatic Clearance for Customer Satisfaction Surveys.

OMB Control Number: 1040-0001. Renewal/Extension.

Abstract: DOI is requesting an extension/renewal of its 3-year programmatic clearance for customer satisfaction surveys, originally approved by the Office of Management and Budget (OMB) in January 2002 and expiring on January 31, 2005. The programmatic clearance enables Interior bureaus and offices to conduct customer research through external surveys such as questionnaires and comment cards. This information is being collected to improve the services and products that DOI provides to the public and thus better carry out part of its statutory mission. Information collected under the 3-year programmatic clearance has led to a number of improvements. For example, customer feedback has helped the Bureau of Land Management improve the timeliness of several of its permitting processes. A survey of visitors to Fish and Wildlife Refuges has identified key issues that will help improve visitor satisfaction. The data have also been used to help Interior assess organizational performance and accountability through GPRA strategic planning and performance measurement. DOI anticipates that the information obtained under a renewal of the programmatic clearance will continue to lead to revisions in certain agency processes and policies, development of guidance related to DOI's customer services, and additional improvements in the way we serve the Nation.

From Whom Will Data Be Collected: This proposal seeks to extend/renew an existing Programmatic Clearance for Customer Satisfaction Surveys that allows Interior and its organizational units to collect satisfaction information from its customers. Interior defines customers as anyone who uses DOI resources, products, or services. This includes internal customers (anyone within DOI) as well as external customers (e.g., the American public, representatives of the private sector, academia, and other government agencies). Depending upon their role in specific situations and interactions, citizens and DOI stakeholders and partners may also be considered customers. We define stakeholders to mean groups or individuals who have an expressed interest in and who seek to influence the present and future state of DOI's resources, products, and services. Partners are defined as those groups, individuals, and agencies who are formally engaged in helping DOI accomplish its mission, or with whom DOI has a joint responsibility or mission.

Rationale for Request for Renewal: Interior will request extension/renewal of its Programmatic Clearance for Customer Satisfaction Surveys so that we may better fulfill our Department or program-specific statutory missions as well as our government-wide responsibilities to provide excellence in government by proactively consulting with those we serve to identify opportunities to improve our information, services, and products. In addition, customer information is needed to meet requirements of the Government Performance and Results Act (GPRA) of 1993 (P.L. 103-62), the Administration's Program Assessment Rating Tool (PART) recommendations, the President's Management Agenda (PMA), and Interior's Citizen-Centered Customer Service Policy.

How Data Will Be Used: The GPRA requires agencies to “improve Federal program effectiveness and public accountability by promoting a new focus on results, service quality, and customer satisfaction” (Section 2.b.3). In order to fulfill this responsibility, DOI's bureaus and offices must collect data from their respective user groups to (1) better understand the needs and desires of the public and (2) respond to those needs and desires accordingly. The renewal will provide us with the necessary authority to collect these data in the way that we do.

Renewal of the Programmatic Clearance for Customer Satisfaction Information is also critical to the Department's ability to collect data essential for assessing progress toward achieving the goals established in our GPRA Strategic Plan. That plan contains a number of performance measures that directly correspond to customer, partner, and stakeholder satisfaction with specific services of Interior and its bureaus and offices. To accurately report whether or not we met targets set for these performance measures, it is imperative for Interior's bureaus and offices to collect data from those we serve.

Interior's Department-wide Customer and Citizen-Centered Service Policy admonishes its bureaus and offices to consult and communicate with customers to integrate their feedback into our programs and business processes in order to improve our service to them. It specifically asks Interior bureaus and offices to obtain customer satisfaction data on an annual basis and to use these data to implement programmatic improvements. The renewal of our Programmatic Clearance will assist these organizations in complying with the Departmental policy.

Executive Order (E.O.) 12862 (September 11, 1993), aimed at “ensuring the Federal Government provides the highest quality service possible to the American people,” fortifies our mandate by the Secretary of the Interior and the Administration to provide “citizen-centered government.” The E.O. discusses surveys as a means for determining the kinds and qualities of service desired by the Federal Government's customers and for determining satisfaction levels for existing service. These voluntary customer surveys will be used to ascertain customer satisfaction with DOI's bureaus and offices in terms of services and products. Previous customer surveys have provided useful information to DOI's bureaus and offices for assessing how well we deliver our services and products, making improvements, and reporting on GPRA performance goals. The results are used internally, and summaries are provided to the OMB on an annual basis and are used to satisfy the requirements and spirit of E.O. 12862.

Which DOI Bureaus and Offices Are Covered by This Proposal: The proposed renewal/extension covers all of the organizational units and bureaus in DOI. It will enable participating DOI bureaus and offices to perform their customer surveys under one programmatic clearance. Under this proposed renewal/extension, DOI will request that OMB review the procedures and questions for these surveys as a program. Under the procedures proposed here, DOI will conduct the necessary quality control, including assurances that the individual survey comports with the guidelines of the programmatic clearance, and submit the particular survey instrument and methodology for expedited review to OMB as we are ready to deploy a specific information collection.

Types of Questions to be Asked: The participating bureaus and offices propose to obtain information voluntarily from their customers and stakeholders. No one survey will cover all the topic areas; rather, these topic areas serve as a guide within which the agencies will develop their questions. Questions may be asked in languages other than English, e.g., Spanish, where appropriate.

We protect information submitted by respondents that is considered confidential or proprietary under the Freedom of Information Act and in accordance with Privacy Act regulations on protecting these data. Respondents are informed of this assurance on the survey forms or during the course of the survey interview.

1. Communication/information/education: The range of questions envisioned for this topic area will focus on customer satisfaction with aspects of communication/information/products/education offered. Respondents may be asked for feedback regarding the following attributes of the service provided:

• Timeliness.

• Consistency.

• Accuracy.

• Ease of Use and Usefulness.

• Ease of Information Access.

• Helpfulness and Effectiveness.

• Quality.

• Value for fee paid for information/product/service.

• Level of engagement in communications process (i.e., whether respondent feels he/she was asked for input and whether or not that input was considered).

2. Disability accessibility: This area will focus on customer satisfaction data related to disability access to Interior buildings, facilities, trails, electronic information, etc.

3. Management practices: This area covers questions relating to how well customers are satisfied with Interior management practices and processes, what improvements they might make to specific processes, and whether or not they feel specific issues were addressed and reconciled in a timely, courteous, responsive manner.

4. Resource management: Questions will ask customers and partners to provide satisfaction data related to Interior's ability to protect, conserve, provide access to, and preserve natural, cultural, and recreational resources that we manage.

5. Other mission management: Questions will ask customers and partners to provide responses related to Interior's ability to carry out those statutory missions that do not relate to resource management, such as serving communities and providing scientific data for decision-making.

6. Rules, regulations, policies: This area focuses on obtaining feedback from customers regarding fairness, adequacy, and consistency in enforcing rules, regulations, and policies for which Interior is responsible. It will also help us understand public awareness of rules and regulations and whether or not they are articulated in a clear and understandable manner.

7. Service delivery: Questions will seek feedback from customers regarding the manner in which services were delivered to them by Interior. Attributes will range from the courtesy of Interior staff to timeliness of service delivery and staff knowledge of the services being delivered.

8. Technical assistance: Questions developed within this topic area will focus on obtaining customer feedback regarding attributes of the content and presentation of technical assistance—ranging from timeliness, to quality, to usefulness, to the medium used (e.g., Web sites, publications, talks, videos), and the skill level of staff providing this assistance.

9. Program-specific: Questions for this area will reflect the specific details of a program that pertain to its customer respondents. The questions will be developed to address very specific and/or technical issues related to the program. The questions will be geared toward gaining a better understanding about how to provide specific products and services and the public's attitude toward their usefulness.

10. General demographics: Some general demographics may be used to augment satisfaction questions in order to better understand the customer so that we can improve how we serve that customer. Demographics data will range from asking customers how many times they have used an Interior service or visited an Interior facility within a specific timeframe to their ethnic group and race. Sensitivity will be used in developing and selecting questions under this topic area so that the customer does not perceive an intrusion upon his/her privacy. Additionally, these questions will ONLY be asked as long as they are critical to understanding customer satisfaction and the character of the customer base. Demographics may also be used as part of a non-response bias strategy to ensure responses are representative of the contact universe.

This effort does not duplicate any other survey being done by DOI or other Federal agencies. Other Federal agencies are conducting user surveys but are not soliciting comments on the delivery of DOI or DOI bureau/office products and services. As part of this effort, DOI consulted with other agencies, including the Department of Agriculture and the U.S. Environmental Protection Agency, who conduct surveys of similar customers, with academic experts in the field of statistics, and with professional consulting groups who design and conduct statistically valid surveys.

Anticipated Public Burden: We estimate approximately 60,000 respondents submit DOI customer satisfaction surveys and comment cards each annually. The average public burden to complete a customer survey is 15 minutes. We also estimate that there are approximately 60,000 respondents submitting comment cards annually, with the average public burden estimated at 3 minutes. Given these estimates, DOI anticipates a total time budget of 18,000 hours per year for the proposed renewal.

Respondent types include coal operators, contractors/vendors, environmental groups, other governments (State, local, foreign), grant recipients, American Indians/Alaska Natives, industry groups, insular governments, interested publics (including community and specific-interest groups), law enforcement, mining companies, public information centers, scientific data users, universities/educators, utility companies, and visitors/recreationists.

We estimate, based on a $15 per hour valuation of volunteer time and the projected budget hours, an approximate aggregate cost to respondents of $270,000. Burden includes the total time, effort, or financial resources expended to generate, maintain, retain, or disclose or provide the information, including: (1) Reviewing instructions; (2) developing, acquiring, installing, and utilizing technology and systems for purposes of collecting, validating, verifying, processing, maintaining, disclosing, and providing information; (3) adjusting the existing ways to comply with any previously applicable instructions and requirements; (4) training personnel to respond to a collection of information; (5) searching data sources; (6) completing and reviewing the collection of information; and (7) transmitting or otherwise disclosing information.

Estimated Annual Reporting and Recordkeeping “Non-Hours Cost” Burden: Agencies must estimate both the “hour” burden and “non-hour cost” burden to respondents or record keepers resulting from the collection of information. We have not identified any non-hour cost burdens for the information collection aspects of the programmatic customer satisfaction survey. Therefore, if you have costs to generate, maintain, and disclose this information, you should comments and provide your total capital and startup cost components or annual operation, maintenance, and purchase of service components. You should describe the methods you use to estimate major cost factors, including system and technology acquisition, expected useful life of capital equipment, discount rate(s), and the period of which you incur costs. Capital and startup costs include, among other items, computers and software you purchase to prepare for collecting information, monitoring, and record storage facilities. Generally, your estimates should not include equipment or services purchased: (1) Before October 1, 1995; (2) to comply with requirements not associated with the information collection; (3) for reasons other than to provide information or keep records for the Government; or (4) as part of customary and usual business or private practices.

Methodology: All requests to collect information under the auspices of this proposed renewal will be carefully evaluated to ensure consistency with the intent, requirements, and boundaries of this programmatic clearance. Interior's Office of Planning and Performance Management will conduct an administrative review of each request and oversee technical reviews to ensure statistical validity and soundness. All information collection instruments will be designed and deployed based upon acceptable statistical practices and sampling methodologies, where appropriate, and will be used to obtain consistent, valid, data that are representative of the sample, account for non-response bias, and target response rates at or above levels needed to obtain statistically useful results.

All submissions under the program of expedited approval must include a description of the survey methodology. This description must be specific and describe each of the following: (a) Respondent universe, (b) the sampling plan and all sampling procedures, including how individual respondents will be selected, (c) how the information collection instrument will be administered, (d) expected response rate and confidence levels, and (e) strategies for dealing with potential non-response bias. A description of any pre-testing and peer review of the methods and/or instrument is also highly encouraged.

Improved information technology will be used, when possible, to reduce the burden on the public and to comply with requirements of the Government Paperwork Elimination Act (GPEA). Electronic mail may be used to introduce and distribute information collection instruments to a sample of customers. In some cases, the instruments may be web-enabled so that respondents can complete them online, enabling the response analysis to be automated. In all cases, appropriate non-response bias strategies will be used to ensure that responses are representative of the contact universe.

Public Disclosure Statement: The PRA provides that a Federal agency may not conduct or sponsor, and a person is not required to respond to, a collection of information unless it displays a currently valid OMB Control Number. Until OMB approves a collection of information, you are not obligated to respond.

Comments: PRA section 3506(c)(2)(A) requires each agency “ * * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology. Furthermore, we are interested in any comments you may have to increase response rates.

To comply with the public consultation process, on May 10, 2004, we published a Federal Register Notice (Volume 69, Number 90, page 25916-25918) announcing that we would submit this renewal/extension request to OMB for approval. The notice provided the required 60-day comment period. One public comment was received during the comment period and we have addressed the individual's concern by responding directly to him and making appropriate revisions to our renewal/extension request.

If you wish to comment in response to this notice, send your comments directly to the offices listed under the ADDRESSES section of this notice. OMB has up to 60 days to approve or disapprove the information collection, but may respond after 30 days. Therefore, to ensure maximum consideration, OMB should receive public comments by December 29, 2004.

Public Comment Policy: Our practice is to make comments, including names and home addresses of respondents, available for public review during regular business hours. Individual respondents may request that we withhold their home address from the record, which we will honor to the extent allowable by law. There may be circumstances in which we would withhold from the record a respondent's identity, as allowable by law. If you as a commenter, wish us to withhold your name and/or address, you must state this prominently at the beginning of your comment. However, we will not consider anonymous comments. We will make all submissions from organizations or business, and from individuals identifying themselves as representatives of organizations or businesses, available for public inspection in their entirety.

DOI Information Collection Contact: Office of Planning and Performance Management (202) 208-1818.

Dated: November 17, 2004.
Richard T. Beck,
Director, Office of Planning and Performance Management.

[FR Doc. 04-26228 Filed 11-26-04; 8:45 am]

BILLING CODE 4310-RK-P